NATIONAL SCIENCE FOUNDATION

Special Emphasis Panel for Geosciences; Notice of Meeting

In accordance with the Federal Advisory Committee Act (Public Law 92-463, as amended), the National Science Foundation announces the following meeting:

Name: Special Emphasis Panel for Geosciences (1756).

Date/Time: May 21-24, 2001; 8:30 a.m. to 5:30 p.m.

Place: Room 515 Stafford-II, National Science Foundation, 4201 Wilson Boulevard, Arlington, VA.

Type of Meeting: Closed.

Contact Person: Ms. Jewel Prendeville, Staff Associate for Diversity and Education, Office of the Assistant Director, Room 705, National Science Foundation, Arlington, VA 22230, (703) 292-8500.

Purpose of Meeting: To provide advice and recommendations concerning proposals submitted to NSF for financial support.

Agenda: To review and evaluate GeoDiversity proposals as part of the selection process for awards.

Reason for Closing: The proposals being reviewed include information of a proprietary or confidential nature, including technical information; financial data, such as salaries; and personal information concerning individuals associated with proposals. These matters are exempt under 5 U.S.C. 552b(c), (4) and (6) of the Government in the Sunshine Act.

Dated: May 1, 2001.
Susanne Bolton,
Committee Management Officer.

[FR Doc. 01-11290 Filed 5-3-01; 8:45 am]

BILLING CODE 7555-01-M